DEPARTMENT OF THE TREASURY

Customs Service

[T.D. 00-66]

Retraction of Revocation Notice

AGENCY: Customs Service, Department of the Treasury.

ACTION: General notice.

SUMMARY: The following Customs broker license numbers were erroneously included in a published list of revoked Customs broker licenses in the Federal Register.

Port, Name, and License No.

Maimi, Olaya Reynaldo, 13732

Chicago, Tammie Krauskopf, 14704

Licenses 13732 and 14704 are valid licenses.

Dated: September 27, 2000.
Bonni G. Tischler,
Assistant Commissioner, Office of Field Operations.

[FR Doc. 00-25582 Filed 10-4-00; 8:45 am]

BILLING CODE 4820-02-P